DEPARTMENT OF DEFENSE

Department of the Air Force

Intent To Grant an Exclusive Patent License

SUMMARY: Pursuant to the provisions of Part 404 of Title 37, Code of Federal Regulations, the Department of the Air Force announces its intention to grant First Technology Safety Systems, Inc., a business entity of Michigan, having a place of business at 47460 Galleon Drive, Plymouth, Michigan 48170, an exclusive license in any right, title and interest the Air Force has in: U.S. Patent No. 7,204,165 issued April 17, 2007, entitled “Anthropomorphic Manikin Head Skull Cap Load Measurement Device” by John A. Plaga et al., as well as other related know-how.

FOR FURTHER INFORMATION CONTACT: A license for this patent and related know-how will be granted unless a written objection is filed within fifteen (15) days from the date of publication of this Notice. For further information, please contact Christopher J. Menke, Attorney, Air Force Materiel Command Law Office, AFMCLO/JAZ, Building 11, Suite D18, 2240 B Street, Wright-Patterson AFB OH 45433-7109. Telephone: (937) 904-5031; Facsimile (937) 255-3733.

Bao-Anh Trinh,
Air Force Federal Register Liaison Officer.

[FR Doc. E8-26650 Filed 11-6-08; 8:45 am]

BILLING CODE 5001-05-P